DEPARTMENT OF COMMERCE

International Trade Administration

[A-570-863]

Honey From the People's Republic of China: Extension of Time Limit for Preliminary Results of First Antidumping Duty Administrative Review

AGENCY: Import Administration, International Trade Administration, Department of Commerce.

ACTION: Notice of extension of time limit for preliminary results of antidumping duty administrative review.

SUMMARY: The Department of Commerce (the Department) is extending the time limit for the preliminary results of the administrative review of the antidumping duty order on honey from the People's Republic of China until no later than December 31, 2003. The period of review for those entities with an affirmative critical circumstances finding is February 10, 2001, through November 30, 2002. For all other companies, the period of review is May 11, 2001, through November 30, 2002.

EFFECTIVE DATE: July 25, 2003.

FOR FURTHER INFORMATION CONTACT: Angelica Mendoza or Brandon Farlander at (202) 482-3019 or (202) 482-0182, respectively; Antidumping and Countervailing Duty Enforcement Group III, Import Administration, International Trade Administration, U.S. Department of Commerce, 14th Street and Constitution Avenue, NW., Washington, DC 20230.

SUPPLEMENTARY INFORMATION:

Statutory Time Limits

Section 751(a)(3)(A) of the Tariff Act of 1930, as amended (the Act), and section 351.213(h)(1) of the Department's regulations require the Department to issue the preliminary results of an administrative review within 245 days after the last day of the anniversary month of the order or suspension agreement for which the administrative review was requested, and final results of review within 120 days after the date on which the notice of the preliminary results was published in the Federal Register. However, if the Department determines that it is not practicable to complete the review within this time period, section 751(a)(3)(A) of the Act and § 351.213(h)(2) of our regulations allow the Department to extend the 245-day period to 365 days and the 120-day period to 180 days.

Background

On December 10, 2001, the Department of Commerce (the Department) published in the Federal Register an antidumping duty order covering honey from the People's Republic of China (PRC). See Notice of Amended Final Determination of Sales at Less Than Fair Value and Antidumping Duty Order; Honey from the People's Republic of China, 66 FR 63670 (December 10, 2001). On December 17, 2002, the Department published a Notice of Opportunity to Request an Administrative Review of Antidumping or Countervailing Duty Order, Finding, or Suspended Investigation, 67 FR 77222 (December 17, 2002). On December 31, 2002, the American Honey Producers Association and the Sioux Honey Association (collectively, petitioners) in this proceeding, requested, in accordance with § 351.213(b) of the Department's regulations, an administrative review of the antidumping duty order on honey from the PRC covering the period May 11, 2001, through November 30, 2002.¹

¹ On January 27, 2003, in a memorandum to the file, we determined that the POR for entities with affirmative findings of critical circumstances to be February 10, 2001, through November 30, 2002. See Memorandum to the File from Angelica L. Mendoza through Donna L. Kinsella, dated January 27, 2003 for further details.

The petitioners requested that the Department conduct an administrative review of entries of subject merchandise made by ten PRC producers/exporters, which included Shanghai Eswell Enterprise Co., Ltd. (Shanghai Eswell), Zhejiang Native Produce and Animal By-Products Import & Export Corp., a.k.a. Zhejiang Native Produce and Animal By-Products Import and Export Group Corporation (Zhejiang), and Wuhan Bee Healthy Co., Ltd. (Wuhan). We also received a timely request from Zhejiang (active respondent in the original investigation) that the Department conduct an administrative review of entries of subject merchandise it exported to the United States during the period of review (POR). On January 22, 2003, the Department initiated an administrative review for all of these companies. See Initiation of Antidumping and Countervailing Duty Administrative Reviews and Requests for Revocation in Part, 68 FR 3009 (January 22, 2003).

On February 20, 2003, the Department issued antidumping duty questionnaires to all ten PRC producers/exporters of the subject merchandise. On April 4, 2003, we received responses to Section A of our antidumping duty questionnaires from Zhejiang and Wuhan. On April 18, 2003, we received responses to Sections C and D of our antidumping duty questionnaires from Zhejiang and Wuhan.

On April 22, 2003, petitioners submitted a withdrawal of request for review for Shanghai Eswell. On May 6, 2003, the Department rescinded, in part, the administrative review of the antidumping duty order on honey with respect to Shanghai Eswell. See Honey from the People's Republic of China: Notice of Partial Rescission of Antidumping Duty Administrative Review, 68 FR 23963 (May 6, 2003).

Extension of Time Limits for Preliminary Results

Pursuant to section 751(a)(3)(A) of the Act and section 351.213(h) of the Department's regulations, we determine that it is not practicable to complete this administrative review within the statutory time limit of 245 days. The Department finds that it is not practicable to complete the preliminary results of this administrative review within this time limit because we need additional time to research the appropriate surrogate value used to value raw honey. Additionally, the Department is analyzing the Indian financial statements currently on the record to determine the appropriate surrogate financial ratios to use in our calculation of normal value. Therefore, in accordance with section 751(a)(3)(A) of the Act and section 351.213(h)(2) of the Department's regulations, the Department is extending the time limit for the completion of these preliminary results by an additional 120 days. The preliminary results will now be due no later than December 31, 2003. The final results will, in turn, be due 120 days after the date of issuance of the preliminary results, unless extended.

Dated: July 21, 2003.
Richard O. Weible,
Acting Deputy Assistant Secretary for Import Administration, Group III.

[FR Doc. 03-19021 Filed 7-24-03; 8:45 am]

BILLING CODE 3510-DS-P